DEPARTMENT OF AGRICULTURE

Agricultural Marketing Service

[Docket No. FV00-902-1NC]

Notice of Request for Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request revision to a currently approved information collection that will merge several individual marketing order information collections into the generic information collection.

DATES: Comments on this notice must be received by December 29, 2000.

ADDITIONAL INFORMATION OR COMMENTS: Contact Valerie L. Emmer-Scott, Marketing Specialist, Marketing Order Administration Branch, Fruit and Vegetable Programs, AMS, USDA, room 2525-S., P.O. Box 96456, Washington, DC 20090-6456; Tel: (202) 205-2829, Fax: (202) 720-5698, or E-mail: moab.docketclerk@usda.gov.

Small businesses may request information on this notice by contacting Jay Guerber, Regulatory Fairness Representative, Marketing Order Administration Branch, Fruit and Vegetable Programs, AMS, USDA, room 2525-S, P.O. Box 96456, Washington, D.C., 20090-6456; telephone (202) 720-2491, Fax: (202) 720-5698, or E-mail: Jay.Guerber@usda.gov.

SUPPLEMENTARY INFORMATION: Title: Marketing Orders for Fruit Crops.

OMB Number: 0581-0189.

Expiration Date of Approval: April 30, 2003.

Type of Request: Revision of a currently approved information collection.

Abstract: Marketing order programs provide an opportunity for producers of fresh fruits, vegetables and specialty crops, in specified production areas, to work together to solve marketing problems that cannot be solved individually. Order regulations help ensure adequate supplies of high quality product and adequate returns to producers. Under the Agricultural Marketing Agreement Act of 1937 (AMAA), as amended (7 U.S.C. 601-674) industries enter into marketing order programs. The Secretary of Agriculture is authorized to oversee the order operations and issue regulations recommended by a committee of representatives from each commodity industry.

The information collection requirements in this request are essential to carry out the intent of the AMAA, to provide the respondents the type of service they request, and to administer the marketing order programs. Under the Act, orders may authorize the following: production and marketing research, including paid advertising, volume regulations, reserves, including pools and producer allotments, container regulations, and quality control. Production and marketing research activities are paid for by assessments levied on handlers regulated under the marketing orders.

Under the marketing orders, producers and handlers are nominated by their respective peers. These nominees then serve as representatives on their respective committees/boards and must file nomination forms with the Secretary.

The respective committees/boards have developed forms as a means for persons to file required information with the committees/boards relating to supplies, shipments, and dispositions of their respective commodities, and other information needed to effectively carry out the purpose of the AMAA and their respective orders, and these forms are utilized accordingly.

Formal rulemaking amendments to the orders must be approved in referenda conducted by the Secretary. Also, the Secretary may conduct a continuance referendum to determine industry support for continuation of these marketing order programs. Handlers are asked to sign an agreement to indicate their willingness to abide by the provisions of the respective orders whenever an order is amended.

This information collection will merge: OMB #0581-0094, Oranges, grapefruit, tangerines, and tangelos grown in Florida, Marketing Order No. 905; OMB #0581-0080, Fresh pears and peaches grown in California, Marketing Order No. 917; OMB #0581-0095, Apricots grown in designated counties in Washington, Marketing Order No. 922; OMB #0581-0089, Winter pears grown in Oregon and Washington, Marketing Order No. 927; OMB #0581-0103, Cranberries grown in the States of Massachusetts, Rhode Island, Connecticut, New Jersey, Wisconsin, Michigan, Minnesota, Oregon, Washington, and Long Island in the State of New York, Marketing Order No. 929; and OMB #0581-0092, Fresh Bartlett pears grown in Oregon and Washington, Marketing Order No. 931.

The forms covered under this information collection will continue to require the minimum information necessary to effectively carry out the requirements of the orders, and their use is necessary to fulfill the intent of the AMAA as expressed in the orders.

The information collected is used only by authorized employees of the committees and authorized representatives of the USDA, including AMS, Fruit and Vegetable Programs' regional and headquarter's staff. Authorized committee employees are the primary users of the information and AMS is the secondary user.

Estimate of Burden: Public reporting burden for this collection of information is estimated to average .40824 hours per response.

Respondents: Producers, handlers and processors.

Estimated Number of Respondents: 16,971.

Estimated Number of Responses per Respondent: 1.283.

Estimated Total Annual Burden on Respondents: 8,889 hours.

Comments: Comments are invited on: (1) Whether the proposed collection of the information is necessary for the proper performance of the functions of the agency, including whether the information will have practical utility; (2) the accuracy of the agency's estimate of the burden of the proposed collection of information including the validity of the methodology and assumptions used; (3) ways to enhance the quality, utility and clarity of the information to be collected; and (4) ways to minimize the burden of the collection of information on those who are to respond, including through the use of appropriate automated, electronic, mechanical, or other technological collection techniques or other forms of information technology.

Comments should reference this docket number and the appropriate marketing order, and be mailed to the Docket Clerk, Fruit and Vegetable Programs, AMS, USDA, P.O. Box 96456, Room 2525-S, Washington, DC 20090-6456; Fax (202) 720-5698; or E-mail: moab.docketclerk@usda.gov. Comments should reference the docket number and the date and page number of this issue of the Federal Register. All comments received will be available for public inspection in the Office of the Docket Clerk during regular USDA business hours at 14th and Independence Ave., S.W., Washington, D.C., room 2525-S, or can be viewed at: http://www.ams.usda.gov/fv/moab.html.

All responses to this notice will be summarized and included in the request for OMB approval. All comments will also become a matter of public record.

Dated: October 24, 2000.
Robert C. Keeney,
Deputy Administrator, Fruit and Vegetable Programs.

[FR Doc. 00-27787 Filed 10-27-00; 8:45 am]

BILLING CODE 3410-02-P